DEPARTMENT OF LABOR

Employment and Training Administration

[TA-W-41,581 and TA-W-41,581A]

The Cincinnati Gear Company, Cincinnati, Ohio, and the Cincinnati Gear Company, Erlanger, Kentucky; Amended Certification Regarding Eligibility To Apply for Worker Adjustment Assistance

In accordance with section 223 of the Trade Act of 1974 (19 U.S.C. 2273) the Department Labor issued a Certification of Eligibility to Apply for Worker Adjustment Assistance on November 22, 2002, applicable to workers of The Cincinnati Gear Company, Cincinnati, Ohio. The notice was published in the Federal Register on December 23, 2002 (67 FR 78252).

At the request of a petitioner, the Department reviewed the certification for workers of the subject firm. The workers were engaged in the production of gears and transmissions.

New findings show that worker separations occurred at the Erlanger, Kentucky facility of The Cincinnati Gear Company. The workers were engaged in the production of gears and transmissions and the final assembly of the entire unit until all production ceased in May 2002.

Accordingly, the Department is amending the certification to cover workers at The Cincinnati Gear Company, Erlanger, Kentucky.

The intent of the Department's certification is to include all workers of The Cincinnati Gear Company who were adversely affected by increased imports and to also correctly identify the name of the subject firm to read The Cincinnati Gear Company.

The amended notice applicable to TA-W-41,581 is hereby issued as follows:

All workers of The Cincinnati Gear Company, Cincinnati, Ohio (TA-W-41,581), and Erlanger, Kentucky (TA-W-41,581A), who became totally or partially separated from employment on or after May 1, 2001, through November 22, 2004, are eligible to apply for adjustment assistance under Section 223 of the Trade Act of 1974.

Signed at Washington DC, this 2nd day of January, 2003.
Richard Church,
Certifying Officer, Division of Trade Adjustment Assistance.

[FR Doc. 03-809 Filed 1-14-03; 8:45 am]

BILLING CODE 4510-30-P